DEPARTMENT OF DEFENSE

Department of the Army

Notice of Intent To Prepare an Environmental Impact Statement for the Design, Construction, and Operation of a Facility for the Destruction of Chemical Agent at Pueblo Chemical Depot, CO

AGENCY: Department of the Army, DOD.

ACTION: Notice of intent.

SUMMARY: This announces the Army's intent to prepare a site-specific Environmental Impact Statement on the potential impacts of the design, construction, and operation of a facility to destroy the mustard chemical agent and munitions stored at Pueblo Chemical Depot, Colorado. The proposed facility will be used to demilitarize the chemical agent and munitions currently stored at Pueblo Chemical Depot. The Environmental Impact Statement will examine potential environmental impacts of the following destruction facility alternatives:

a. A baseline incineration facility.

b. A full-scale facility to pilot test the single-story incineration process.

c. A full-scale facility to pilot test the alternative technology successfully demonstrated by the Assembled Chemical Weapons Assessment Program—neutralization followed by supercritical water oxidation.

d. A full-scale facility to pilot test the alternative technology successfully demonstrated by the Assembled Chemical Weapons Assessment Program—neutralization followed by biodegradation.

e. No action, an alternative which will continue the storage of the mustard agent and munitions at Pueblo Chemical Depot.

To fulfill the need for destruction of the chemical weapons stockpile at Pueblo Chemical Depot in time to meet the requirements of the Chemical Weapons Convention, a pilot test facility would have to be determined to be as safe as and as cost efficient as baseline incineration. It must also be capable of completing destruction of the Pueblo Chemical Depot stockpile by the later of the Chemical Weapons Convention destruction date or the date the Pueblo Chemical Depot stockpile would be destroyed if baseline incineration were used. This requirement is consistent with the requirement for certification contained in section 142 of the Strom Thurmond National Defense Authorization Act for Fiscal Year 1999, Public Law 105-261.

DATES: Written comments must be received not later than May 30, 2000, in order to be considered in the Draft Environmental Impact Statement.

ADDRESSES: Written comments may be forwarded to the Program Manager for Chemical Demilitarization, Public Outreach and Information Office (ATTN: Mr. Gregory Mahall), Building E-4585, Aberdeen Proving Ground, MD 21010-4005.

FOR FURTHER INFORMATION CONTACT: Mr. Gregory Mahall at 410-436-1093, by fax at 410-436-5122, or by mail at gjamahall@sbccom-emh1.apgea. army.mil or by mail at the above listed address.

SUPPLEMENTARY INFORMATION: In compliance with the National Environmental Policy Act (40, FR parts 1500-1508), the Army will prepare an Environmental Impact Statement to assess the health and environmental impacts of the design, construction, and operation of a facility to destroy the mustard chemical agent and munitions stored at Pueblo Chemical Depot, Colorado. Public law and international treaty require the mustard chemical agent and munitions to be destroyed. This Environmental Impact Statement will analyze the impact of the various methods of destroying the Pueblo stockpile. This action is proposed in concert with an announcement to programmatically address the process for follow-on tests for assembled chemical weapons destruction technologies at one or more sites. These two separate and distinct analyses serve complementary but distinct purposes.

This site-specific Environmental Impact Statement continues the process that began when Congress established the Program for Chemical Demilitarization in Public Law 99-145 in 1985. This law requires the destruction of the chemical weapons stockpile by a deadline established by treaty. That date is April 2007. This requirement still exists, notwithstanding the establishment of the Assembled Chemical Weapons Assessment Program. The Chemical Demilitarization Program established by Public Law 99-145 published a Programmatic Environmental Impact Statement in January 1988. The Record of Decision states that the stockpile of chemical agents and munitions should be destroyed in a safe and environmentally acceptable manner by on-site incineration. Site-specific Environmental Impact Statements that tier off the Programmatic Environmental Impact Statement have been prepared for Johnston Atoll Chemical Agent Disposal System, Tooele Chemical Agent Disposal Facility, Anniston Chemical Agent Disposal Facility, Umatilla Chemical Agent Disposal Facility, and Pine Bluff Chemical Agent Disposal Facility.

The specific purpose of the current analysis is to determine the environmental impacts of the alternatives that could accomplish the destruction of the stockpile at Pueblo Chemical Depot by the required destruction date of April 2007, including the alternatives of using the technologies successfully demonstrated by the Assembled Chemical Weapons Assessment Program. In the course of the environmental impact analysis it will be determined whether construction of a full-scale plant operated initially as a pilot facility and utilizing any of the technologies successfully demonstrated in the Assembled Chemical Weapons Assessment Program is capable of destroying the stockpile at Pueblo Chemical Depot by the required destruction date (or as soon thereafter as could be achieved by constructing a destruction facility using the baseline incineration technology), and of doing so as safely as use of the baseline incineration technology. The Record of Decision, based on the 1988 Programmatic Environmental Impact Statement, does not limit or predetermine the results of this consideration, and it does not dictate the decision to be made in the Record of Decision following completion of the Environmental Impact Statement for this action at Pueblo Chemical Depot. The Army 1988 Programmatic Environmental Impact Statement will be used to cover Pueblo Chemical Depot actions in the event that an incineration technology is selected as the preferred alternative at the conclusion of the analysis of all the available alternatives.

The second document announcing the programmatic analysis for follow-on pilot testing of successful Assembled Chemical Weapons Assessment Program demonstration tests pursuant to the process established by Congress in Public Laws 10-208 and 10-261 addresses a distinct but related purpose. That purpose is to determine which technologies can be pilot tested and if so, at which site or sites. That Environmental Impact Statement will be distinct from this site-specific Environmental Impact Statement in that its emphasis will be on the feasibility of pilot testing one or more of the demonstrated and approved Assembled Chemical Weapons Assessment Program technologies considering the unique characteristics of the alternative sites, to include Pueblo Chemical Depot. The Environmental Impact Statement will not consider the use of a full-scale facility operated initially as a pilot facility at Pueblo Chemical Depot; as discussed above, this alternative will be considered in the site specific Environmental Impact Statement for Pueblo Chemical Depot. At the conclusion of both of these Environmental Impact Statements, the same officials will issue the Records of Decision.

The Army will hold scoping meetings to aid in determining the significant issues related to the proposed action which will be addressed in the Environmental Impact Statement. The scoping process will incorporate public participation, including Federal, State of Colorado, and local agencies, as well as residents within the affected environment. The dates, times, and locations of scoping meetings will be announced in appropriate news media at least 15 days prior to these meetings.

Dated: April 10, 2000.
Raymond J. Fatz,
Deputy Assistant Secretary of the Army (Environment, Safety, and Occupational Health) OASA (I&E).

[FR Doc. 00-9337 Filed 4-13-00; 8:45 am]

BILLING CODE 3710-08-M